DEPARTMENT OF TRANSPORTATION

Pipeline and Hazardous Materials Safety Administration

[Docket No. PHMSA-05-22356]

RIN 2137-AE13

Hazardous Materials: Enforcement Procedures; Correction

AGENCY: Pipeline and Hazardous Materials Safety Administration (PHMSA), DOT.

ACTION: Notice of public meetings.

SUMMARY: On January 25, 2006, PHMSA published a notice of public meetings inviting interested persons to participate in a series of public meetings addressing the enhanced hazardous materials transportation enforcement authority contained in the Hazardous Materials Safety and Security Reauthorization Act of 2005 (Title VII of the Safe, Accountable, Flexible, Efficient Transportation Equity Act: A Legacy for Users (SAFETEA-LU)), enacted on August 10, 2005. In the January 25, 2006, notice we published a 3 p.m. start time for the March 15, 2006 public meeting in error. The Seattle, Washington meeting will instead begin at 12 p.m. on March 15, 2006.

DATES: Public meetings:

(1) February 21, 2006, starting at 8 a.m., in Dallas, Texas;

(2) March 8, 2006, starting at 9 a.m., in Washington, DC; and

(3) March 15, 2006, starting at 12 p.m., in Seattle, Washington.

ADDRESSES: Public meetings:

(1) Dallas/Addison Marriott Quorum by the Galleria, 14901 Dallas Parkway, Dallas, TX 75254;

(2) DOT Headquarters, Nassif Bldg, Room 2230, 400 Seventh Street, SW., Washington, DC 20590; and

(3) Doubletree Guest Suites Seattle, South Center, 16500 South Center Parkway, Seattle, WA 98188. This meeting will be conducted in conjunction with the Multimodal Hazmat Transportation Training Seminar being held on March 14-15, 2006. To register for the Seminar (free to the first 450 pre-registrants), please complete and submit the registration form available on the Web site of PHMSA's Office of Hazardous Materials Safety (http://hazmat.dot.gov/training/training.htm).

Oral presentations: Any person wishing to present an oral statement should notify Vincent Lopez by telephone, e-mail, or in writing at least four business days before the date of the public meeting at which the person wishes to speak. Oral statements will be limited to 15 minutes per commenter. For information on facilities or services for persons with disabilities or to request special assistance at the meetings, contact Mr. Lopez by telephone or e-mail as soon as possible.

Docket: For access to the docket to read background documents including those referenced in this document go to http://dms.dot.gov and/or Room PL-401 on the Plaza level of the Nassif Building, 400 Seventh Street, SW., Washington, DC between 9 a.m. and 5 p.m., Monday through Friday, except Federal holidays.

FOR FURTHER INFORMATION CONTACT: Jackie K. Cho (jackie.cho@dot.gov) or Vincent Lopez (vincent.lopez@dot.gov), Office of Chief Counsel, Pipeline and Hazardous Materials Safety Administration. U.S. Department of Transportation, 400 Seventh Street, SW., Room 8417, Washington, DC 20590, (202) 366-4400.

SUPPLEMENTARY INFORMATION: Background information may be obtained from the Notice published on January 25, 2006, 71 FR 4207-4208.

Correction:

The January 25, 2006, Notice published a 3 p.m. start time for the Seattle, Washington public meeting in error. Instead, the Seattle meeting will begin at 12 p.m. on March 15, 2006.

Issued in Washington, DC on February 8, 2006, under authority delegated in 49 CFR part 106.
Robert A. McGuire,
Associate Administrator for Hazardous Materials Safety.

[FR Doc. 06-1317 Filed 2-10-06; 8:45 am]

BILLING CODE 4910-60-P